POSTAL SERVICE

Board of Governors; Sunshine Act Meeting

DATES AND TIMES: Thursday, August 5, 2021, at 10:00 a.m.; and Friday, August 6, 2021, at 9:00 a.m.

PLACE: Washington, DC, at U.S. Postal Service Headquarters, 475 L'Enfant Plaza SW, in the Benjamin Franklin Room.

STATUS: Thursday, August 5, 2021, at 10:00 a.m.—Closed; Friday, August 6, 2021, at 9:00 a.m.—Open.

MATTERS TO BE CONSIDERED:

Thursday, August 5, 2021, at 10:00 a.m. (Closed)

1. Strategic Issues.

2. Financial and Operational Matters.

3. Compensation and Personnel Matters.

4. Administrative Items.

Friday, August 6, 2021, at 9:00 a.m. (Open)

1. Remarks of the Chairman of the Board of Governors.

2. Remarks of the Postmaster General and CEO.

3. Approval of Minutes of Previous Meetings.

4. Committee Reports.

5. Quarterly Financial Report.

6. Quarterly Service Performance Report.

7. Approval of Tentative Agendas for November Meetings.

A public comment period will begin immediately following the adjournment of the open session on August 6, 2021. During the public comment period, which shall not exceed 30 minutes, members of the public may comment on any item or subject listed on the agenda for the open session above. Registration of speakers at the public comment period is required. Speakers may register online at https://www.surveymonkey.com/r/BOG-08-06-2021. Onsite registration will be available until thirty minutes before the meeting starts. No more than three minutes shall be allotted to each speaker. The time allotted to each speaker will be determined after registration closes. Participation in the public comment period is governed by 39 CFR 232.1(n).

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2021-16191 Filed 7-27-21; 11:15 am]

BILLING CODE 7710-12-P